SURFACE TRANSPORTATION BOARD

[Docket No. FD 36626]

OmniTRAX Holdings Combined, Inc., and HGS Railway Holdings, Inc.—Continuance in Control Exemption—Omni River Ridge, LLC d/b/a River Ridge Railroad

AGENCY: Surface Transportation Board.

ACTION: Correction to notice of exemption.

OmniTRAX Holdings Combined, Inc. (OmniTRAX), and HGS Railway Holdings, Inc. (HGS) (collectively, Omni-HGS), both noncarriers, filed a verified notice of exemption under 49 CFR 1180.2(d)(2) to continue in control of Omni River Ridge, LLC d/b/a River Ridge Railroad (RRR), a noncarrier controlled by OmniTRAX, upon RRR's becoming a Class III rail carrier.¹ On July 15, 2022, notice of the exemption was served and published in the Federal Register (87 FR 42,537). The exemption is scheduled to become effective on July 29, 2022.

¹ This transaction is related to a verified notice of exemption filed concurrently in Omni River Ridge, LLC d/b/a River Ridge Railroad—Operation Exemption—in Clark County, Ind., Docket No. FD 36625, in which Omni River Ridge, LLC, seeks to operate approximately 0.943 miles of track in Clark County, Ind.

The served notice inadvertently omitted the effective date of the exemption. The notice should have stated that the transaction may be consummated on or after July 29, 2022, the effective date of the exemption (30 days after the verified notice was filed). This notice corrects that error.

If the verified notice contains false or misleading information, the exemption is void ab initio. Petitions to revoke the exemption under 49 U.S.C. 10502(d) may be filed at any time.

All pleadings, referring to Docket No. FD 36626, must be filed with the Surface Transportation Board either via e-filing on the Board's website or in writing addressed to 395 E Street SW, Washington, DC 20423-0001. In addition, one copy of each pleading must be served on Omni-HGS's representative, Robert A. Wimbish, Fletcher & Sippel LLC, 29 North Wacker Drive, Suite 800, Chicago, IL 60606-3208.

Board decisions and notices are available at www.stb.gov.

Decided: July 29, 2022.
By the Board, Mai T. Dinh, Director, Office of Proceedings.
Eden Besera,
Clearance Clerk.

[FR Doc. 2022-16313 Filed 7-28-22; 8:45 am]

BILLING CODE 4915-01-P